DEPARTMENT OF TRANSPORTATION

Office of the Secretary

Aviation Proceedings, Agreements Filed During Week Ending August 24, 2001

The following Agreements were filed with the Department of Transportation under provisions of 49 U.S.C. Sections 412 and 414. Answers may be filed within 21 days after the filing of the applications.

Docket Number: OST-2001-10455

Date Filed: August 20, 2001

Parties: Members of the International Air Transport Association

Subject:

PTC23 AFR-TC3 0124 dated 14 August 2001

Mail Vote 141—Resolution 010L

TC23/TC123 Africa—TC3

Special Passenger Amending Resolution from Libya r1-r11

Intended effective date: 30 August 2001

Docket Number: OST-2001-10476

Date Filed: August 22, 2001

Parties: Members of the International Air Transport Association

Subject:

PTC1 0190 dated 14 August 2001

TC1 Caribbean Expedited Resolutions 002LL, 015v

PTC1 0192 dated 14 August 2001

TC1 Within South America Expedited Resolutions 001aa, 002y, 078ec

Intended effective date: 15 September

Docket Number: OST-2001-10477

Date Filed: August 22, 2001

Parties: Members of the International Air Transport Association

Subject:

PTC1 0191 dated 14 August 2001

TC1 Longhaul (except between USA and Chile)

Expedited Resolutions r1-r6

Intended effective date: 15 September 2001

Dorothy Y. Beard,
Federal Register Liaison.

[FR Doc. 01-22540 Filed 9-6-01; 8:45 am]

BILLING CODE 4910-62-P